DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. chapter 35).

Agency: United States Patent and Trademark Office (USPTO).

Title: Submissions Regarding Correspondence and Regarding Attorney Representation (Trademarks).

Form Number(s): PTO Forms 2196, 2197, and 2201.

Agency Approval Number: 0651-0056.

Type of Request: Revision of a currently approved collection.

Burden: 10,927 hours annually.

Number of Respondents: 123,010 responses per year. Of this total, the USPTO estimates that 117,151 responses will be submitted through TEAS.

Avg. Hours per Response: The USPTO estimates that it takes the public approximately 5 to 30 minutes (0.08 to 0.50 hours) to complete this information, depending on the application. This includes the time to gather the necessary information, prepare the requests, and submit them to the USPTO. The time estimates shown for the electronic forms in this collection are based on the average amount of time needed to complete and electronically file the associated form.

Needs and Uses: The public uses the information in this collection to appoint attorneys and domestic representatives to act on their behalf in the prosecution of their applications, to revoke those same appointments, to request permission to withdraw as the attorney of record or domestic representative, to request replacement of the attorney of record with another already-appointed attorney, and to request a change of the owner's or domestic representative's address. The USPTO uses the collected information to process the requests.

Affected Public: Businesses or other for-profit organizations.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: InformationCollection@uspto.gov. Include “0651-0056 copy request” in the subject line of the message.

• Mail: Susan K. Fawcett, Records Officer, Office of the Chief Information Officer, United States Patent and Trademark Office, P.O. Box 1450, Alexandria, VA 22313-1450.

Written comments and recommendations for the proposed information collection should be sent on or before September 1, 2011 to Nicholas A. Fraser, OMB Desk Officer, via e-mail to Nicholas_A._Fraser@omb.eop.gov, or by fax to 202-395-5167, marked to the attention of Nicholas A. Fraser.

Dated: July 28, 2011.
Susan K. Fawcett,
Records Officer, USPTO, Office of the Chief Information Officer.

[FR Doc. 2011-19497 Filed 8-1-11; 8:45 am]

BILLING CODE 3510-16-P